DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by December 30, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Natural Resources and Conservation Service

Title: Volunteer Program—Earth Team.

OMB Control Number: 0578-0024.

Summary of Collection: Volunteers have been a valuable human resource to the Natural Resources Conservation Service (NRCS) since 1985. Collection of this information is necessary to document service of volunteers as required by 7 U.S.C. 2272: Volunteers for Department of Agriculture Programs and Departmental Regulation DR 4230-001—Volunteer Programs. Agencies are authorized to recruit, train and accept, with regard to Civil Service classification laws, rules, or regulations, the services of individuals to serve without compensation. Volunteers may assist in any agency program/project and may perform any activities which agency employees are allowed to do. Volunteers must be 14 years of age. NRCS will collect information using NRCS forms NRCS-Per-002 and NRCS-PER-004.

Need and Use of the Information: NRCS will collect information on the type of skills and type of work the volunteers are interested in doing. The collected information will be used by supervisors of volunteers and the International Program Division to evaluate potential international volunteers and evaluate the effectiveness of the volunteer program. Without the information, NRCS would not know which individuals are interested in volunteering.

Description of Respondents: Individuals or households; Business or other for-profit; State, Local, or Tribal Government.

Number of Respondents: 8,220.

Frequency of Responses: Reporting: Semi-Annually.

Total Burden Hours: 1,011.

Ruth Brown,
Departmental Information Collection Clearance Officer.

[FR Doc. 2022-26058 Filed 11-29-22; 8:45 am]

BILLING CODE 3410-16-P